DEPARTMENT OF THE INTERIOR

Fish and Wildlife Service

50 CFR Part 17

RIN 1018-AH70

Endangered and Threatened Wildlife and Plants; Designations of Critical Habitat for Plant Species From the Islands of Maui and Kahoolawe, HI

AGENCY: Fish and Wildlife Service, Interior.

ACTION: Proposed rule; reopening of comment period, and public hearing announcement.

SUMMARY: The U.S. Fish and Wildlife Service (Service) gives notice of a public hearing on the proposed critical habitat designations for 61 plants from the islands of Maui and Kahoolawe, Hawaii. In addition, the comment period which originally closed on June 3, 2002, will be reopened. The new comment period and hearing will allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on September 30, 2002. Any comments received by the closing date will be considered in the final decision on this proposal. The public hearing will be held from 5:30 p.m. to 8:30 p.m. on Thursday September 12, 2002, on the island of Maui, Hawaii. Prior to the public hearing, the Service will be available from 3:30 to 4:30 p.m. to provide information and to answer questions. The Service will also be available for questions after the hearing.

ADDRESSES: The public hearing will be held at the Maui Arts and Cultural Center Meeting Room, One Cameron Way, Kahului, Maui, Hawaii. Comments and materials concerning this proposal should be sent to the Field Supervisor, U.S. Fish and Wildlife Service, Pacific Islands Office, 300 Ala Moana Boulevard, Room 3-122, PO Box 50088, Honolulu, HI 96850. Comments and materials received will be available for public inspection, by appointment, during normal business hours at the above address.

FOR FURTHER INFORMATION CONTACT: Paul Henson, at the above address, (telephone 808/541-3441, facsimile 808/541-3470).

SUPPLEMENTARY INFORMATION: The public hearing for the proposed critical habitat designations for 61 plants from the islands of Maui and Kahoolawe announced in this Federal Register notice and the public hearing for the proposal to designate critical habitat for Blackburn's sphinx moth announced in a separate Federal Register notice are scheduled for the same date, time, and location on Maui as a matter of convenience to the public. We will accept comments at this public hearing on the proposed critical habitat designations for 61 plants from the islands of Maui and Kahoolawe, as well as the proposal to designate critical habitat for Blackburn's sphinx moth.

Background

On April 3, 2002, we published a revised proposed critical habitat rule for 61 of the 70 plant species listed under the Endangered Species Act of 1973, as amended (Act) (16 U.S.C. 1531 et seq.), known historically from the islands of Maui and Kahoolawe (67 FR 15856). The original comment period closed on June 3, 2002. The comment period now closes on September 30, 2002. Written comments should be submitted to us (see ADDRESSES section).

A total of 70 species historically found on Maui and Kahoolawe were listed as endangered or threatened species under the Act between 1991 and 1999. Some of these species may also occur on other Hawaiian islands. Previously, we proposed that designation of critical habitat was prudent for 57 (Adenophorus periens, Alectryon macrococcus, Argyroxiphium sandwicense ssp. macrocephalum, Asplenium fragile var. insulare, Bidens micrantha ssp. kalealaha, Bonamia menziesii, Brighamia rockii, Cenchrus agrimonioides, Centaurium sebaeoides, Clermontia lindseyana, Clermontia oblongifolia ssp. mauiensis, Colubrina oppositifolia, Ctenitis squamigera, Cyanea grimesiana ssp. grimesiana, Cyanea lobata, Cyanea mceldowneyi, Cyrtandra munroi, Delissea undulata, Diellia erecta, Diplazium molokaiense, Flueggea neowawraea, Geranium arboreum, Geranium multiflorum, Hedyotis coriacea, Hedyotis mannii, Hesperomannia arborescens, Hesperomannia arbuscula, Hibiscus brackenridgei, Ischaemum byrone, Isodendrion pyrifolium, Lipochaeta kamolensis, Lysimachia lydgatei, Mariscus pennatiformis, Melicope adscendens, Melicope balloui, Melicope knudsenii, Melicope mucronulata, Melicope ovalis, Neraudia sericea, Peucedanum sandwicense, Phlegmariurus mannii, Phyllostegia mannii, Phyllostegia mollis, Plantago princeps, Platanthera holochila, Pteris lidgatei, Remya mauiensis, Sanicula purpurea, Schiedea haleakalensis, Schiedea nuttallii, Sesbania tomentosa, Solanum incompletum, Spermolepis hawaiiensis, Tetramolopium capillare, Tetramolopium remyi, Vigna o-wahuensis, and Zanthoxylum hawaiiense) of the 70 species reported from the islands of Maui and Kahoolawe. No change is made to the 57 proposed prudency determinations in the April 3, 2002, revised proposed critical habitat rule for plants from Maui and Kahoolawe. We previously proposed that designation of critical habitat was not prudent for Acaena exigua because it had not been seen recently in the wild, and no viable genetic material of this species is known to exist (65 FR 79192). No change is made to this proposed prudency determination in the April 3, 2002, revised proposed critical habitat rule (67 FR 15856). In the April 3, 2002, revised proposed critical habitat rule, we proposed that designation of critical habitat is prudent for six other species (Clermontia peleana, Gouania vitifolia, Nototrichium humile, Phyllostegia parviflora, Schiedea hookeri, and Tetramolopium arenarium) for which prudency determinations have not been made previously. We determined that designation of critical habitat was prudent for Clermontia samuelii, Cyanea copelandii ssp. halekalaensis, Cyanea glabra, Cyanea hamatiflora ssp. hamatiflora, Dubautia plantaginea ssp. humilis, and Kanaloa kahoolawensis at the time of their listing in 1999.

We also propose designation of critical habitat for 61 (Alectryon macrococcus, Argyroxiphium sandwicense ssp. macrocephalum, Adenophorus periens, Bidens micrantha ssp. kalealaha, Bonamia menziesii, Brighamia rockii, Cenchrus agrimonioides, Centaurium sebaeoides, Clermontia lindseyana, Clermontia oblongifolia ssp. mauiensis, Clermontia samuelii, Colubrina oppositifolia, Ctenitis squamigera, Cyanea copelandii ssp. haleakalaensis, Cyanea glabra, Cyanea grimesiana ssp. grimesiana, Cyanea hamatiflora ssp. hamatiflora, Cyanea lobata, Cyanea mceldowneyi, Cyrtandra munroi, Delissea undulata, Diellia erecta, Diplazium molokaiense, Dubautia plantaginea ssp. humilis, Flueggea neowawraea, Geranium arboreum, Geranium multiflorum, Hedyotis coriacea, Hedyotis mannii, Hesperomannia arborescens, Hesperomannia arbuscula, Hibiscus brackenridgei, Ischaemum byrone, Isodendrion pyrifolium, Kanaloa kahoolawensis, Lipochaeta kamolensis, Lysimachia lydgatei, Mariscus pennatiformis, Melicope adscendens, Melicope balloui, Melicope knudsenii, Melicope mucronulata, Melicope ovalis, Neraudia sericea, Peucedanum sandwicense, Phlegmariurus mannii, Phyllostegia mannii, Phyllostegia mollis, Plantago princeps, Platanthera holochila, Pteris lidgatei, Remya mauiensis, Sanicula purpurea, Schiedea haleakalensis, Schiedea nuttallii, Sesbania tomentosa, Spermolepis hawaiiensis, Tetramolopium capillare, Tetramolopium remyi, Vigna o-wahuensis, and Zanthoxylum hawaiiense) plant species. Critical habitat is not proposed for 9 (Aceana exigua, Adenophorus periens, Clermontia peleana, Delissea undulata, Phyllostegia parviflora, Schiedea hookeri, Schiedea nuttallii, Solanum incompletum, and Tetramolopium arenarium) of the 70 species which no longer occur on the islands of Maui and Kahoolawe, and for which we are unable to identify any habitat that is essential to their conservation on the islands of Maui or Kahoolawe. Thirteen critical habitat units, totaling approximately 51,208 hectares (126,531 acres), are proposed for designation on the islands of Maui and Kahoolawe. For locations of these proposed units, please consult the proposed rule (67 FR 15856) (April 3, 2002).

Section 4(b)(5)(E) of the Act, requires that a public hearing be held if it is requested within 45 days of the publication of a proposed rule. In response to a request from a government agency of the State of Hawaii, we will hold a public hearing on the date and at the address described in the DATES and ADDRESSES sections above.

Anyone wishing to make an oral statement for the record is encouraged to provide a written copy of their statement and present it to us at the hearing. In the event there is a large attendance, the time allotted for oral statements may be limited. Oral and written statements receive equal consideration. There are no limits to the length of written comments presented at the hearing or mailed to us. Legal notices announcing the date, time, and location of the public hearing will be published in newspapers concurrently with the Federal Register notice.

Persons needing reasonable accommodations in order to attend and participate in the public hearing should contact Patti Carroll at 503/231-2080 as soon as possible. In order to allow sufficient time to process requests, please call no later than one week before the hearing date.

Information regarding this proposal is available in alternative formats upon request.

Comments from the public regarding this proposed rule are sought, especially regarding:

(1) The reasons why critical habitat for any of these species is prudent or not prudent as provided by section 4 of the Act and 50 CFR 424.12(a)(1);

(2) The reasons why any particular area should or should not be designated as critical habitat for any of these species, as critical habitat is defined by section 3 of the Act;

(3) Specific information on the amount, distribution, and quality of habitat for the 61 species, and what habitat is essential to the conservation of the species and why;

(4) Land use practices and current or planned activities in the subject areas, and their possible impacts on proposed critical habitat;

(5) Any economic or other impacts resulting from the proposed designations of critical habitat, including any impacts on small entities, energy development, low income households, and local governments;

(6) Economic and other potential values associated with designating critical habitat for the above plant species such as those derived from non-consumptive uses (e.g., hiking, camping, birding, enhanced watershed protection, increased soil retention, “existence values”, and reductions in administrative costs); and

(7) Information for use, under section 4(b)(2) of the Act, in determining if the benefits of excluding an area from critical habitat outweigh the benefits of specifying the area as critical habitat.

Reopening of the comment period will enable us to respond to the request for a public hearing on the proposed action. The comment period on this proposal now closes on September 30, 2002. Written comments should be submitted to the Service office listed in the ADDRESSES section.

Author

The primary author of this notice is Michelle Mansker (see ADDRESSES section).

Authority: The authority for this action is the Endangered Species Act of 1973 (16 U.S.C. 1531 et seq.).

Dated: August 14, 2002.
David P. Smith,
Acting Assistant Secretary for Fish and Wildlife and Parks.

[FR Doc. 02-21703 Filed 8-23-02; 8:45 am]

BILLING CODE 4310-55-P